DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Patent Processing (Updating).

Form Number(s): PTO/SB/08a, PTO/SB/08b, PTO/SB/17i, PTO/SB/17P, PTO/SB/21-27, PTO/SB/30-37, PTO/SB/42-43, PTO/SB/61-64, PTO/SB/64a, PTO/SB/67-68, PTO/SB/91-92, PTO/SB/96-97, PTO-2053-A/B, PTO-2054-A/B, PTO-2055-A/B, PTOL/413A.

Agency Approval Number: 0651-0031.

Type of Request: Revision of a currently approved collection.

Burden: 2,731,841 hours.

Number of Respondents: 2,281,439 responses.

Avg. Hours Per Response: 1 minute 48 seconds to 8 hours. The USPTO estimates that it will take 8 minutes (0.13) to complete the request to retrieve electronic priority application(s) and 6 minutes (0.10) to complete the authorization to permit access to application by priority offices. This includes time to gather the necessary information, create the documents, and submit the completed request.

Needs and Uses: This proposed new electronic exchange of copies of priority applications will benefit applicants by reducing the cost of ordering paper certified copies of priority applications for filing in other participating intellectual property offices, and will benefit participating intellectual property offices by reducing the administrative costs associated with transferring paper copies of priority applications and scanning them into the electronic image record management systems. The USPTO is submitting this collection in support of a final rulemaking, “Changes to Implement Priority Document Exchange between Intellectual Property Offices” (RIN 0651-AB75). There are two forms associated with this final rulemaking, PTO/SB 33, Request to Retrieve Electronic Priority Application(s) Under 37 CFR 1.55(d), which will allow the applicant to request that the USPTO retrieve such documents from other participating intellectual property offices; and PTO/SB/34, Authorization to Permit Access to Application by Participating Offices Under 37 CFR 1.14(h), which will allow the applicant to authorize the USPTO to release confidential documents to other participating intellectual property offices that are important to the prosecution of the patent application.

Affected Public: Individuals or households; business or other for-profit; not-for-profit institutions; farms, the Federal Government, and State, Local or Tribal Governments.

Frequency: On occasion.

Respondent's Obligation: Required to obtain or retain benefits.

OMB Desk Officer: David Rostker, (202) 395-3897.

Copies of the above information collection proposal can be obtained by any of the following methods:

• E-mail: Susan.Brown@uspto.gov. Include “0651-0031 copy request” in the subject line of the message.

• Fax: 703-308-7407, marked to the attention of Susan Brown.

• Mail: Susan K. Brown, Records Officer, Office of the Chief Information Officer, Office of Data Architecture and Services, Data Administration Division, U.S. Patent and Trademark Office, P.O. Box 1450, Alexandria, VA 22313-1450.

Written comments and recommendations for the proposed information collection should be sent on or before August 26, 2004, to David Rostker, OMB Desk Officer, Room 10202, New Executive Office Building, 725 17th Street NW., Washington, DC 20503.

Dated: July 21, 2004.
Susan K. Brown,
Records Officer, USPTO, Office of Data Architecture and Services, Data Administration Division.

[FR Doc. 04-17039 Filed 7-26-04; 8:45 am]

BILLING CODE 3510-16-P